INTERNATIONAL TRADE COMMISSION

[Investigation Nos. 731-TA-394-A and 399-A (Third Review)]

Ball Bearings and Parts Thereof From Japan and the United Kingdom; Termination of Five-Year Reviews

AGENCY: United States International Trade Commission.

ACTION: Notice.

SUMMARY: The subject five-year reviews were initiated in January 2014 to determine whether revocation of the antidumping duty orders on ball bearings and parts thereof from Japan and the United Kingdom would be likely to lead to continuation or recurrence of material injury. On March 26, 2014, the Department of Commerce published notice that it was revoking the orders effective September 15, 2011 (the fifth anniversary of the most recent notice of continuation of the antidumping duty orders), because “no domestic interested party filed a notice of intent to participate” (79 FR 16771). Accordingly, pursuant to section 751(c) of the Tariff Act of 1930 (19 U.S.C. 1675(c)), the subject reviews are terminated.

DATES: Effective Date: March 27, 2014.

FOR FURTHER INFORMATION CONTACT: Elizabeth Haines (202-205-3200), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov).

Authority: These reviews are being terminated under authority of title VII of the Tariff Act of 1930; this notice is published pursuant to section 207.69 of the Commission's rules (19 CFR 207.69).

By order of the Commission.
Issued: April 2, 2014.
Lisa R. Barton,
Acting Secretary to the Commission.

[FR Doc. 2014-07770 Filed 4-7-14; 8:45 am]

BILLING CODE 7020-02-P